DEPARTMENT OF EDUCATION

Privacy Act of 1974; Matching Program

AGENCY: Department of Education.

ACTION: Notice of a New Matching Program.

SUMMARY: This document provides notice of the re-establishment of a matching program between the Department of Education (Department or ED) and the Department of Homeland Security, U.S. Citizenship and Immigration Services (USCIS). ED seeks access to the information contained in the DHS-USCIS database (referred to as the Verification Information System (VIS)) for the purpose of verifying the immigration status of applicants for assistance for title IV federal student aid.

DATES: Submit your comments on the proposed matching program on or before October 15, 2019.

The matching program will go into effect at the later of the following two dates: (1) October 21, 2019, or (2) 30 days after the publication of this notice, on September 13, 2019, unless comments have been received from interested members of the public requiring modification and replication of the notice. The matching program will continue for 18 months after the effective date and may be extended for an additional 12 months, if the respective Data Integrity Boards (DIBs) of the Department and USCIS determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to https://www.regulations.gov/ to submit your comments electronically. Information on using Regulations.gov, including instructions for accessing agency documents, submitting comments, and viewing the docket, is available on the site under the “help” tab.

• Postal Mail, Commercial Delivery, or Hand Delivery: If you mail or deliver your comments about these proposed regulations, address them to Marya Dennis, Management and Program Analyst, U.S. Department of Education, Federal Student Aid, Union Center Plaza, 830 First Street NE, Washington, DC 20002-5345.

Privacy Note: The Department's policy is to make all comments received from members of the public available for public viewing in their entirety on the Federal eRulemaking Portal at https://www.regulations.gov/. Therefore, commenters should be careful to include in their comments only information that they wish to make publicly available.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Ms. Marya Dennis, Management and Program Analyst, U.S. Department of Education, Federal Student Aid, Union Center Plaza, 830 First Street NE, Washington, DC 20002-5345. Telephone: (202) 377-3385.

If you use a telecommunications device for the deaf (TDD) or a text telephone (TTY), call the Federal Relay Service (FRS), toll free at 1-800-877-8339.

SUPPLEMENTARY INFORMATION:

We provide this notice in accordance with the Privacy Act of 1974, as amended (5 U.S.C. 552a); Office of Management and Budget (OMB) Final Guidance Interpreting the Provisions of Public Law 100-503, the Computer Matching and Privacy Protection Act of 1988, 54 FR 25818 (June 19, 1989); and OMB Circular No. A-108, 81 FR 94424 (December 23, 2016).

The prior Computer Matching Agreement (CMA) was published in the Federal Register on March 20, 2017 FR 14355). Under the provisions of the Computer Matching and Privacy Protection Act of 1988, Public Law 100-503, the CMA was renewed for an additional 12 months through October 20, 2019, because: (1) The program was conducted without change; and (2) each Data Integrity Board Chairperson certified in writing that the program was conducted in compliance with the CMA. ED and USCIS are now re-establishing the matching program through this notice.

Participating Agencies

ED and USCIS.

Authority for Conducting the Matching Program

ED seeks this information for the purpose of verifying the immigration status of applicants for assistance, as authorized by section 484(g) of the Higher Education Act of 1965, as amended (HEA), 20 U.S.C. 1091(g), consistent with the requirements of section 484(a)(5), 20 U.S.C. 1091(a)(5). ED is authorized to participate in the matching program, which is the subject of this agreement, under the authority of section 484(g)(3) of the HEA, 20 U.S.C. 1091(g)(3), and 20 U.S.C. 3475. DHS-USCIS is authorized to participate in this immigration status verification system under section 103 of the Immigration and Nationality Act, as amended, 8 U.S.C. 1103, and the Illegal Immigration Reform and Immigrant Responsibility Act of 1996, Public Law 104-208, 110 Stat. 3009, as amended, 8 U.S.C. 1373(c).

Categories of Individuals

Individuals who have completed the Free Application for Federal Student Aid (FAFSA), have indicated that they are an “Eligible noncitizen” and have provided their Alien Registration Number (ARN).

Categories of Records

ED will provide to the DHS the ARN, Social Security number, first and last name, and date of birth of each applicant for financial assistance under title IV of the HEA who indicates that they are an “Eligible noncitizen” and have provided their Alien Registration Number (ARN) in his or her application for financial assistance under title IV of the HEA.

System(s) of Records

ED system of records: Federal Student Aid Application File (18-11-01) (76 FR 46774, August 3, 2011).

DHS-USCIS system of records: Systematic Alien Verification for Entitlements (SAVE) System (81 FR 78619, November 8, 2016).

Accessible Format: Individuals with disabilities can obtain this document in an accessible format (such as, braille, large print, audiotape, or compact disc) on request to the contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Adobe Portable Document Format (PDF). To use PDF you must have Adobe Acrobat Reader, which is available free at the site.

You may also access documents of the Department published in the Federal Register by using the article search feature at www.federalregister.gov. Specifically, through the advanced search feature at this site, you can limit your search to documents published by the Department.

Dated: September 10, 2019.
Mark A. Brown,
Chief Operating Officer, Federal Student Aid.

[FR Doc. 2019-19891 Filed 9-12-19; 8:45 am]

BILLING CODE 4000-01-P